DEPARTMENT OF LABOR

Office of the Secretary

Submission for OMB Review: Comment Request

April 24, 2007.

The Department of Labor (DOL) has submitted the following public information collection requests (ICR) to the Office of Management and Budget (OMB) for review and approval in accordance with the Paperwork Reduction Act of 1995 (Pub. L. 104-13, 44 U.S.C. chapter 35). A copy of each ICR, with applicable supporting documentation, may be obtained from RegInfo.gov at http://www.reginfo.gov/public/do/PRAMain or by contacting Darrin King on 202-693-4129 (this is not a toll-free number) / e-mail: king.darrin@dol.gov.

Comments should be sent to Office of Information and Regulatory Affairs, Attn: OMB Desk Officer for the Occupational Safety and Health Administration (OSHA), Office of Management and Budget, Room 10235, Washington, DC 20503, Telephone: 202-395-7316/Fax: 202-395-6974 (these are not a toll-free numbers), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension without change of currently approved collection.

Title: Access to Employee Exposure and Medical Records (29 CFR 1910.1020).

OMB Number: 1218-0065.

Type of Response: Recordkeeping.

Affected Public: Public Sector: Business or other for-profits.

Number of Respondents: 734,820.

Number of Annual Responses: 6,503,968.

Estimated Time per Response: Varies by task.

Total Burden Hours: 720,187.

Total Annualized capital/startup costs: $0.

Total Annual Costs (operating/maintaining systems or purchasing services): $0.

Description: The Standard requires employers to preserve and provide access to records associated with employees' exposure to toxic chemicals and harmful physical agents. Employee records and access to them are critically important to the detection, treatment, and prevention of occupational illness and disease.

Agency: Occupational Safety and Health Administration.

Type of Review: Extension without change of currently approved collection.

Title: Formaldehyde (1910.1048).

OMB Number: 1218-0145.

Type of Response: Recordkeeping and Third-party disclosure.

Affected Public: Public Sector: Business or other for-profits.

Number of Respondents: 112,638.

Number of Annual Responses: 1,903,049.

Estimated Time per Response: Varies by task.

Total Burden Hours: 519,076.

Total Annualized capital/startup costs: $0.

Total Annual Costs (operating/maintaining systems or purchasing services): $55,325,688.

Description: The Formaldehyde Standard and its collections of information are designed to provide protection for employees from the adverse health effects associated with occupational exposure to formaldehyde. The Standard requires employers to monitor employee exposure and provide notification to employees of their exposure. Employers are required to make available medical surveillance to employees.

Agency: Occupational Safety and Health Administration.

Type of Review: Extension without change of currently approved collection.

Title: Definition and Requirements for a Nationally Recognized Testing Laboratory (29 CFR 1910.7).

OMB Number: 1218-0147.

Type of Response: Reporting.

Affected Public: Public Sector: Business or other for-profits.

Number of Respondents: 67.

Number of Annual Responses: 67.

Estimated Time per Response: 20 hours.

Total Burden Hours: 1,340.

Total Annualized capital/startup costs: $0.

Total Annual Costs (operating/maintaining systems or purchasing services): $0.

Description: A number of OSHA's standards require certain equipment to be “tested” (or “approved”) by a “nationally recognized testing laboratory” (NRTL). An organization seeking to perform this testing (or approval) must be “recognized” by OSHA and must apply to the OSHA NRTL Program for recognition. Recognition is granted after OSHA determines that the organization meets certain requirements.

Darrin A. King,
Acting Departmental Clearance Officer.

[FR Doc. E7-8142 Filed 4-27-07; 8:45 am]

BILLING CODE 4510-26-P